DEPARTMENT OF ENERGY

Federal Energy Regulatory Commission

Combined Notice of Filings #1

Take notice that the Commission received the following electric rate filings:

Docket Numbers: ER10-1141-001; ER10-1139-001; ER10-1151-004; ER10-1103-001; ER10-1119-001; ER10-1123-001; ER10-3247-004

Applicants: Ameren Energy Marketing Company, Ameren Energy Generating Company, Electric Energy Inc., AmerenEnergy Medina Valley Cogen, L.L.C., AmerenEnergy Resources Generating Company, Ameren Illinois Company, Union Electric Company

Description: Triennial Market Power Update of the Ameren Companies.

Filed Date: 12/23/11

Accession Number: 20111223-5139

Comments Due: 5 p.m. ET 2/21/12

Docket Numbers: ER10-1819-001; ER10-1820-003; ER10-1818-001; ER10-1817-002

Applicants: Northern States Power Company, a Minnesota corporation, Northern States Power Company, a Wisconsin corporation, Public Service Company of Colorado, Southwestern Public Service Company

Description: Change-in-Status Report of Northern States Power Company, a Minnesota corporation, et al.

Filed Date: 12/23/11

Accession Number: 20111223-5143

Comments Due: 5 p.m. ET 1/13/12

Docket Numbers: ER10-1819-002; ER10-1820-004

Applicants: Northern States Power Company, a Minnesota corporation, Northern States, a Wisconsin corporation

Description: Market-Based Rate Authorization Triennial Market Power Analysis.

Filed Date: 12/23/11

Accession Number: 20111223-5144

Comments Due: 5 p.m. ET 2/21/12

Docket Numbers: ER10-3142-003; ER10-3145-003; ER10-3147-003; ER10-3148-003; ER10-3114-003; ER10-3116-003; ER10-3118-003, ER10-3120-003; ER10-3121-003; ER11-2036-003; ER10-3126-003; ER10-3128-003; ER10-3131-003; ER10-1800-003; ER10-3136-003; ER11-2701-004; ER10-1728-003; ER10-2491-003

Applicants: Mountain View Power Partners, LLC, Indianapolis Power & Light Company, AES Eastern Energy, LP, DPL Energy, LLC, The Dayton Power and Light Company, AES Alamitos, LLC, AES Redondo Beach, L.L.C., Condon Wind Power, LLC, AES Huntington Beach LLC, AES Armenia Mountain Wind, LLC, AES Creative Resources, L.P., AES Energy Storage, LLC, AES ES Westover, LLC, AES Ironwood, L.L.C., AES Red Oak, L.L.C., AES Laurel Mountain, LLC, AEE2, L.L.C., Mountain View Power Partners IV, LLC

Description: AES MBR Affiliates Notice of Change in Status.

Filed Date: 12/23/11

Accession Number: 20111223-5106

Comments Due: 5 p.m. ET 1/13/12

Docket Numbers: ER12-683-000

Applicants: Ameren Energy Generating Company

Description: Amendment to AEG Market Rate Tariff to be effective 2/21/2012.

Filed Date: 12/23/11

Accession Number: 20111223-5097

Comments Due: 5 p.m. ET 1/13/12

Docket Numbers: ER12-684-000

Applicants: ITC Midwest LLC

Description: Great River Energy Agreements to be effective 2/22/2012.

Filed Date: 12/23/11

Accession Number: 20111223-5098

Comments Due: 5 p.m. ET 1/13/12

Docket Numbers: ER12-685-000

Applicants: Pacific Gas and Electric Company

Description: City of Gridley WPA and NCPA IA to be effective 1/1/2012.

Filed Date: 12/23/11

Accession Number: 20111223-5103

Comments Due: 5 p.m. ET 1/13/12

Docket Numbers: ER12-686-000

Applicants: Citizens Sunrise Transmission LLC

Description: Transmission Owner Tariff Baseline to be effective 12/23/2011.

Filed Date: 12/23/11

Accession Number: 20111223-5105

Comments Due: 5 p.m. ET 1/13/12

Docket Numbers: ER12-687-000

Applicants: AES Alamitos, LLC

Description: AES Alamitos Tariff Filing to be effective 2/21/2012.

Filed Date: 12/23/11

Accession Number: 20111223-5118

Comments Due: 5 p.m. ET 1/13/12

Docket Numbers: ER12-688-000

Applicants: AES Creative Resources, L.P.

Description: AES Creative Resources Tariff Filing to be effective 2/21/2012.

Filed Date: 12/23/11

Accession Number: 20111223-5124

Comments Due: 5 p.m. ET 1/13/12

Docket Numbers: ER12-689-000

Applicants: AES Eastern Energy, L.P.

Description: AES Eastern Energy Tariff Filing to be effective 2/21/2012.

Filed Date: 12/23/11

Accession Number: 20111223-5126

Comments Due: 5 p.m. ET 1/13/12

Docket Numbers: ER12-690-000

Applicants: AES Huntington Beach, L.L.C.

Description: AES Huntington Beach Tariff Filing to be effective 2/21/2012.

Filed Date: 12/23/11

Accession Number: 20111223-5128

Comments Due: 5 p.m. ET 1/13/12

Docket Numbers: ER12-691-000

Applicants: AES Redondo Beach, L.L.C.

Description: AES Redondo Beach Tariff Filing to be effective 2/21/2012.

Filed Date: 12/23/11

Accession Number: 20111223-5130

Comments Due: 5 p.m. ET 1/13/12

Docket Numbers: ER12-692-000

Applicants: Condon Wind Power, LLC

Description: Condon Wind Power Tariff Filing to be effective 2/21/2012.

Filed Date: 12/23/11

Accession Number: 20111223-5131

Comments Due: 5 p.m. ET 1/13/12

Docket Numbers: ER12-693-000

Applicants: Mountain View Power Partners, LLC

Description: Mountain View Tariff Filing to be effective 2/21/2012.

Filed Date: 12/23/11

Accession Number: 20111223-5132

Comments Due: 5 p.m. ET 1/13/12

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 27, 2011.
Nathaniel J. Davis, Sr.,
Deputy Secretary.

[FR Doc. 2011-33718 Filed 1-3-12; 8:45 am]

BILLING CODE 6717-01-P